FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel—Operating Common Carrier Ocean Transportation Intermediary Applicant:

Bel Transportation, Inc., 1734 W. 149th Street, #C, Gardena, CA 90247. Officers: Bobby Hwang, Vice President, (Qualifying Individual), Eui S. Cheon, President.

Non-Vessel—Operating Common Carrier and Ocean Freight Forwarder Transportation Intermediary Applicants:

Leverette Logistics, LLC, 1096 Ingleside Avenue, Jacksonville, FL 32205. Officer: Lucius D. Leverette, President, (Qualifying Individual).

Neptune One, Inc., 3608 S.W. 166 Avenue, Miramar, FL 33027. Officers: Ersia I. Manrique, President, (Qualifying Individual), Hector R. Sotolongo, Director.

Latex Logistics USA Inc., One Cross Island Plaza, Suite 203E, Rosedale, NY 11422. Officers: Angel J. Pipitone, President, (Qualifying Individual), Mustafa Silan, Vice President.

Ocean Freight Forwarder—Ocean Transportation Intermediary Applicants:

Axiom Trade Inc., Kennedy Avenue Mai Center, Suite 210, San Juan, PR 00920. Officer: Paulette Diaz, President, (Qualifying Individual).

Mudanza La Gaviota Shipping Inc., 468 Roseville Avenue, Newark, NJ 07107. Officer: Manuel Alvarez, President, (Qualifying Individual).

Superior Global Logistics, 28300 Industrial Blvd., Suite B, Hayward, CA 94545. Officers: Robert Glaviano, President, (Qualifying Individual).

Dated: February 10, 2006.
Bryant L. VanBrakle,
Secretary.

[FR Doc. E6-2162 Filed 2-14-06; 8:45 am]

BILLING CODE 6730-01-P